DEPARTMENT OF COMMERCE

National Oceanic and Atmospheric Administration

Review of Nomination for Lake Erie Quadrangle National Marine Sanctuary

AGENCY: Office of National Marine Sanctuaries (ONMS), National Ocean Service (NOS), National Oceanic and Atmospheric Administration (NOAA), Department of Commerce (DOC).

ACTION: Notice; request for written comments.

SUMMARY: The Office of National Marine Sanctuaries of the National Oceanic and Atmospheric Administration is requesting written comments to facilitate ONMS' five year review of the nomination for the Lake Erie Quadrangle National Marine Sanctuary (NMS). In particular, NOAA is requesting relevant information as it pertains to its evaluation criteria for inclusion in the inventory (these criteria are detailed at https://nominate.noaa.gov/guide.html). In this five year review, NOAA will pay particular attention to any new information about the nomination's resources, changes to any threats towards these resources, and any updates to the management framework of the area. NOAA will also assess the continuity and breadth of community-based support for the nomination. NOAA has provided the original nominating party an opportunity to share its views on these same questions. Following this information gathering and internal analysis, NOAA will make a final determination on whether or not the Lake Erie Quadrangle NMS nomination will remain in the inventory for another five year period.

DATES: Written comments must be received by February 11, 2021.

ADDRESSES: Comments may be submitted by the following method:

Federal eRulemaking Portal: https://www.regulations.gov. Submit electronic comments via the Federal eRulemaking Portal with Docket Number NOAA-NOS-2020-0167.

Instructions: All comments received are a part of the public record. All personal identifying information (for example, name and address) voluntarily submitted by the commenter may be publicly accessible. Do not submit confidential business information or otherwise sensitive or protected information. NOAA will accept anonymous comments (enter N/A in the required fields to remain anonymous).

FOR FURTHER INFORMATION CONTACT: Ellen Brody, Great Lakes Regional Coordinator, 4840 South State Road, Ann Arbor, MI 48108 or at ellen.brody@noaa.gov, 734-741-2270.

SUPPLEMENTARY INFORMATION:

Background Information

In 2014, NOAA issued a final rule establishing the sanctuary nomination process (SNP), which details how communities may submit nominations to NOAA for consideration of national marine sanctuary designation (79 FR 33851). NOAA moves successful nominations to an inventory of areas that could be considered for national marine sanctuary designation. The final rule establishing the SNP included a five-year limit on any nomination added to the inventory that NOAA does not advance for designation.

In November 2019, NOAA issued a notice (84 FR 61546) to clarify procedures for evaluating and updating a nomination as it approaches the five-year mark on the inventory of areas that could be considered for national marine sanctuary designation. The nomination for Lake Erie Quadrangle NMS was accepted to the national inventory on February 22, 2016, and is therefore scheduled to expire on February 22, 2021. The full nomination can be found at https://nominate.noaa.gov/nominations/.

NOAA is not proposing to designate the Lake Erie Quadrangle NMS or any other new national marine sanctuary with this action. Instead, NOAA is seeking public comment on ONMS' five year review of the nomination for the Lake Erie Quadrangle NMS. Accordingly, written comments submitted as part of this request should not focus on whether NOAA should initiate the designation process for the Lake Erie Quadrangle. Rather, comments should address the relevance of the nomination towards NOAA's evaluation criteria and any new information NOAA should consider about the nominated area. Comments that do not pertain to the evaluation criteria, or present new information on the Lake Erie Quadrangle NMS nomination, will not be considered as part of this five year review.

Whether removing or maintaining the nomination for Lake Erie Quadrangle NMS, NOAA would follow the same procedure for notifying the public as was followed when the nomination was submitted, including a letter to the nominator, a notice in the Federal Register, and posting information on “nominate.noaa.gov”.

Authority: 16 U.S.C. 1431 et seq.

John Armor,
Director, Office of National Marine Sanctuaries, National Ocean Service, National Oceanic and Atmospheric Administration.

[FR Doc. 2020-29176 Filed 1-11-21; 8:45 am]

BILLING CODE 3510-NK-P